NATIONAL AERONAUTICS AND SPACE ADMINISTRATION

[Notice: (21-066)]

Earth Science Advisory Committee; Meeting

AGENCY: National Aeronautics and Space Administration.

ACTION: Notice of meeting.

SUMMARY: In accordance with the Federal Advisory Committee Act, as amended, the National Aeronautics and Space Administration (NASA) announces a meeting of the Earth Science Advisory Committee (ESAC). This Committee functions in an advisory capacity to the Director, Earth Science Division, in the NASA Science Mission Directorate. The meeting will be held for the purpose of soliciting, from the science community and other persons, scientific and technical information relevant to program planning.

DATES: Thursday, November 4, 2021, 1:00 p.m.-2:00 p.m., Eastern Time.

FOR FURTHER INFORMATION CONTACT: KarShelia Kinard, Science Mission Directorate, NASA Headquarters, Washington, DC 20546, (202) 358-2355 or karshelia.kinard@nasa.gov.

SUPPLEMENTARY INFORMATION: This meeting will be open to the public telephonically and by WebEx. You must use a touch-tone phone to participate in this meeting. Any interested person may dial the USA US toll free number 1-888-989-3483 or toll number 1-517-308-9111, passcode: 9775739, to participate in this meeting by telephone. The WebEx link is https://nasaenterprise.webex.com/; the event number is 2762 286 7926 and the event password: 6bPikHCc*48 (case sensitive).

The agenda for the meeting includes the following topic:

—Earth Science Program Annual Performance Review According to the Government Performance and Results Act Modernization Act.

It is imperative that the meeting be held on this date to accommodate the scheduling priorities of the key participants.

Patricia Rausch,
Advisory Committee Management Officer, National Aeronautics and Space Administration.

[FR Doc. 2021-22883 Filed 10-20-21; 8:45 am]

BILLING CODE 7510-13-P